DEPARTMENT OF THE TREASURY

Bureau of Alcohol, Tobacco and Firearms

27 CFR Parts 55, 70, and 270

[T.D. ATF-446a]

RIN 1512-AC37

Technical Amendment to Regulations; Correction

AGENCY: Bureau of Alcohol, Tobacco and Firearms (ATF), Department of the Treasury.

ACTION: Correcting amendments.

SUMMARY: This document contains correcting amendments to the Treasury decision, which was published in the Federal Register on March 27, 2001 (66 FR 16601), regarding technical amendments to Title 27, Code of Federal Regulations (CFR).

DATES: This rule is effective March 27, 2001.

FOR FURTHER INFORMATION CONTACT: Angela Shanks, Regulations Division, Bureau of Alcohol, Tobacco and Firearms, 650 Massachusetts Avenue NW., Washington, DC 20226, (202) 927-8210.

SUPPLEMENTARY INFORMATION:

Background

The Bureau of Alcohol, Tobacco and Firearms (ATF) published a document in the Federal Register of March 27, 2001 (66 FR 16601). Sections 55.128, 55.218, and 70.803(c) were erroneously revised. Also, the OMB numbers in §§ 270.165 and 270.165a were erroneously removed. This document corrects these errors.

Accordingly, 27 CFR part 55, 70, and 270 are corrected to make the following correcting amendments:

PART 55—COMMERCE IN EXPLOSIVES

1. The authority citation for part 55 continues to read as follows:

Authority: 18 U.S.C. 847.

2. The second sentence in § 55.128 is revised to read as follows:

§ 55.128 Discontinuance of business.

* * * Where discontinuance of the business or operations is absolute, the records required by this subpart must be delivered within 30 days following the business or operations discontinuance to any ATF office located in the region in which the business was located, or to the ATF Out-of-Business Records Center, Spring Mills Office Park, 882 T.J. Jackson Drive, Falling Waters, West Virginia 25419.

* * * * *

3. Section 55.218 is amended by adding the reference “(1.5 lbs.)” after “1½ lbs.” in paragraph (3) to the Notes of the Table of Distances for Storage of Explosives.

PART 70—PROCEDURE AND ADMINSTRATION

4. On page 16602, in the Federal Register of March 27, 2001, remove amendatory instruction paragraph 7.

PART 270—MANUFACTURE OF TOBACCO PRODUCTS AND CIGARETTE PAPERS AND TUBES

5. The authority citation for part 270 continues to read as follows:

Authority: 26 U.S.C. 5142, 5143, 5146, 5701, 5703-5705, 5711-5713, 5721-5723, 5731, 5741, 5751, 5753, 5761-5763, 6061, 6065, 6109, 6151, 6301, 6302, 6311, 6313, 6402, 6404, 6423, 6676, 6806, 7011, 7212, 7325, 7342, 7502, 7503, 7606, 7805; 31 U.S.C. 9301, 9303, 9304, 9306.

6. Section 270.165 is amended by adding the following at the end of the section to read as follows:

* * * * *

(Approved by Office of Management and Budget under control number 1512-0467)

7. Section 270.165a is amended by adding the following at the end of the section to read as follows:

* * * * *

(Approved by Office of Management and Budget under control number 1512-0457)

Signed: April 10, 2001.
Bradley A. Buckles,
Director.

[FR Doc. 01-9240 Filed 4-12-01; 8:45 am]

BILLING CODE 4810-31-P